Title 3—

The President

Proclamation 8314 of October 30, 2008

National Diabetes Month, 2008

By the President of the United States of America

A Proclamation

Many Americans, of all ages and backgrounds, are affected by diabetes. National Diabetes Month is an opportunity to inform individuals about the risk factors, prevention, and treatment of this serious disease.

Diabetes is a debilitating disease that results from the body's inability to produce or use insulin effectively. Type 1 diabetes, once known as juvenile diabetes, usually affects children and young adults who are dependant on medication for their lack of insulin. The most common form of diabetes is Type 2 diabetes. Family history and lifestyle risk factors contribute to the possibility of developing Type 2 diabetes. Regular physical activity, healthy eating habits, and consultation with a doctor can help prevent and reduce the effects of this disease.

My Administration is committed to preventing diabetes and finding a cure for this disease. We have provided substantial funding for diabetes education programs and research initiatives. Through the Department of Health and Human Services and other organizations, the National Diabetes Education Program is helping increase awareness among Americans about the risk factors of diabetes and the benefits of making healthy choices. Our Nation must continue to support initiatives that will help turn today's research opportunities into tomorrow's medical success stories.

During National Diabetes Month, we celebrate the medical professionals, researchers, and all those whose time, talents, and energy support the fight against diabetes. Through these efforts and enhanced public awareness of this serious disease, we will work to continue to bring the hope of a healthier future to more Americans.

NOW, THEREFORE, I, GEORGE W. BUSH, President of the United States of America, by virtue of the authority vested in me by the Constitution and laws of the United States, do hereby proclaim November 2008 as National Diabetes Month. I call upon all Americans to learn more about the risk factors and symptoms associated with diabetes and to observe this month with appropriate programs and activities.

IN WITNESS WHEREOF, I have hereunto set my hand this thirtieth day of October, in the year of our Lord two thousand eight, and of the Independence of the United States of America the two hundred and thirty-third.

[FR Doc. E8-26355

Filed 10-31-08; 11:15 am]

Billing code 3195-W9-P